DEPARTMENT OF TRANSPORTATION

Federal Aviation Administration

14 CFR Part 71

[Docket No. FAA-2022-1557; Airspace Docket No. 22-ACE-21]

RIN 2120-AA66

Amendment of Class D and E Airspace and Revocation of Class E Airspace; Topeka, KS

AGENCY: Federal Aviation Administration (FAA), DOT.

ACTION: Final rule.

SUMMARY: This action amends the Class D and E airspace and revokes Class E airspace at Topeka, KS. These actions are the result of biennial airspace reviews. The name of Topeka Regional Airport, Topeka, KS, and the geographic coordinates of Philip Billard Municipal Airport, Topeka, KS, are also being updated to coincide with the FAA's aeronautical database.

DATES: Effective 0901 UTC, April 20, 2023. The Director of the Federal Register approves this incorporation by reference action under 1 CFR part 51, subject to the annual revision of FAA Order JO 7400.11 and publication of conforming amendments.

ADDRESSES: FAA Order JO 7400.11G, Airspace Designations and Reporting Points, and subsequent amendments can be viewed online at www.faa.gov/air_traffic/publications/. For further information, you can contact the Airspace Policy Group, Federal Aviation Administration, 800 Independence Avenue SW, Washington, DC 20591; telephone: (202) 267-8783.

FOR FURTHER INFORMATION CONTACT: Jeffrey Claypool, Federal Aviation Administration, Operations Support Group, Central Service Center, 10101 Hillwood Parkway, Fort Worth, TX 76177; telephone (817) 222-5711.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends the Class D airspace, the Class E surface airspace, and the Class E airspace extending upward from 700 feet above the surface at Topeka Regional Airport, Topeka, KS, and Philip Billard Municipal Airport, Topeka, KS, and removes the Class E airspace designated as an extension to Class D and Class E surface airspace areas at Philip Billard Municipal Airport to support instrument flight rule operations at these airports.

History

The FAA published a notice of proposed rulemaking (NPRM) in the Federal Register (87 FR 75533; December 9, 2022) for Docket No. FAA-2022-1557 to amend the Class D and E airspace and revoke Class E airspace at Topeka, KS. Interested parties were invited to participate in this rulemaking effort by submitting written comments on the proposal to the FAA. No comments were received.

Class D and E airspace designations are published in paragraphs 5000, 6002, 6004, and 6005 of FAA Order JO 7400.11G, dated August 19, 2022, and effective September 15, 2022, which is incorporated by reference in 14 CFR 71.1. The Class D and E airspace designations listed in this document will be published subsequently in FAA Order JO 7400.11.

Availability and Summary of Documents for Incorporation by Reference

This document amends FAA Order JO 7400.11G, Airspace Designations and Reporting Points, dated August 19, 2022, and effective September 15, 2022. FAA Order JO 7400.11G is publicly available as listed in the ADDRESSES section of this document. FAA Order JO 7400.11G lists Class A, B, C, D, and E airspace areas, air traffic service routes, and reporting points.

Differences From the NPRM

Vertical limits were inadvertently included in the airspace legal descriptions for the Class E surface airspace at Topeka Regional Airport, Topeka, KS, and Philip Billard Municipal Airport, Topeka, KS. The vertical limits were not included in The Proposal of the NPRM, and the vertical limits are not part of the current airspace legal descriptions. Accordingly there is no impact on the airspace, and the vertical limits are not included in this action.

The Rule

This amendment to 14 CFR part 71:

Amends the Class D airspace at Topeka Regional Airport, Topeka, KS, by removing the Forbes Field Airport ILS and RIPLY LOM and the associated extensions from the airspace legal description; updates the header of the airspace legal description from “Topeka, Forbes Field Airport, KS” to “Topeka, KS” to comply with changes to FAA Order JO 7400.2N, Procedures for Handling Airspace Matters; removes the city associated with the airport in the airspace legal description to comply with changes to FAA Order JO 7400.2N; updates the name of the airport (previously Forbes Field Airport) to coincide with the FAA's aeronautical database; and replaces the outdated terms “Notice to Airmen” with “Notice to Air Missions” and “Airport/Facility Directory” with “Chart Supplement”;

Amends the Class D airspace at Philip Billard Municipal Airport by adding an extension 1 mile each side of the 002° bearing from the airport extending from the 4-mile radius of the airport to 4.1 miles north of the airport; adds an extension 1 mile each side of the 134° bearing from the Philip Billard Muni: RWY 13-LOC extending from the 4-mile radius of the airport to 4.1 miles southeast of the Philip Billard Muni: RWY 13-LOC; adds an extension 1 mile each side of the 314° bearing from the airport extending from the 4-mile radius of the airport to 4.2 miles northwest of the airport; updates the header of the airspace legal description from “Topeka, Philip Billard Municipal Airport, KS” to “Topeka, KS” to comply with changes to FAA Order JO 7400.2N; removes the city associated with the airport to comply with changes to FAA Order JO 7400.2N; updates the geographic coordinates of the airport to coincide with the FAA's aeronautical database; removes Forbes Field, KS, from the airspace legal description as it is not required; and replaces the outdated terms “Notice to Airmen” with “Notice to Air Missions” and “Airport/Facility Directory” with “Chart Supplement”;

Amends the Class E surface airspace at Topeka Regional Airport by removing the Forbes Field Airport ILS and RIPLY LOM and the associated extensions from the airspace legal description; updates the header of the airspace legal description from “Topeka, Forbes Field Airport, KS” to “Topeka, KS” to comply with changes to FAA Order JO 7400.2N; removes the city associated with the airport in the airspace legal description to comply with changes to FAA Order JO 7400.2N; updates the name of the airport (previously Forbes Field Airport) to coincide with the FAA's aeronautical database; and adds missing part-time language to the airspace legal description;

Amends the Class E surface airspace at Philip Billard Municipal Airport by adding an extension 1 mile each side of the 002° bearing from the airport extending from the 4-mile radius of the airport to 4.1 miles north of the airport; adds an extension 1 mile each side of the 134° bearing from the Philip Billard Muni: RWY 13-LOC extending from the 4-mile radius of the airport to 4.1 miles southeast of the Philip Billard Muni: RWY 13-LOC; adds an extension 1 mile each side of the 314° bearing from the airport extending from the 4-mile radius of the airport to 4.2 miles northwest of the airport; updates the header of the airspace legal description from “Topeka, Philip Billard Municipal Airport, KS” to “Topeka, KS” to comply with changes to FAA Order JO 7400.2N; removes the city associated with the airport to comply with changes to FAA Order JO 7400.2N; updates the geographic coordinates of the airport to coincide with the FAA's aeronautical database; removes Forbes Field, KS, from the airspace legal description as it is not required; and replaces the outdated terms “Notice to Airmen” with “Notice to Air Missions” and “Airport/Facility Directory” with “Chart Supplement”;

Removes the Class E airspace designated as an extension to Class D and Class E surface airspace area at Philip Billard Municipal Airport as it is no longer required;

Amends the Class E airspace extending upward from 700 feet above the surface at Topeka Regional Airport by removing the Forbes Field ILS and associated extension from the airspace legal description; adds an extension 1 mile each side of the 040° bearing from the airport extending from the 7.4-mile radius of the airport to 12.8 miles northeast of the airport; adds an extension 3.9 miles each side of the Forbes TACAN 124° radial extending from the 7.4-mile radius of the airport to 10.4 miles southwest of the Forbes TACAN; adds an extension 1 mile each side of the 220° bearing from the airport extending from the 7.4-mile radius of the airport to 12.8 miles southwest of the airport; updates the header of the airspace legal description from “Topeka, Forbes Field Airport, KS” to “Topeka, KS” to comply with changes to FAA Order JO 7400.2N; removes the city associated with the airport in the airspace legal description to comply with changes to FAA Order JO 7400.2N; updates the name of the airport (previously Forbes Field Airport) to coincide with the FAA's aeronautical database;

And amends the Class E airspace extending upward from 700 feet above the surface at Philip Billard Municipal Airport by removing the Topeka VORTAC, BILOY LOM, and Philip Billard Municipal Airport ILS Localizer and the associated extensions from the airspace legal description; adds an extension 1.5 miles each side of the 134° bearing from the Philip Billard Muni: RWY 13-LOC extending from the 6.5-mile radius of the airport to 8.1 miles southeast of the Philip Billard Muni: RWY 13-LOC; adds an extension 3.8 miles each side of the 314° bearing from the Philip Billard Muni: RWY 13-LOC extending from the 6.5-mile radius of the airport to 10.9 miles northwest of the Philip Billard Muni: RWY 13-LOC; updates the header of the airspace legal description from “Topeka, Philip Billard Municipal Airport, KS” to “Topeka, KS” to comply with changes to FAA Order JO 7400.2N; removes the city associated with the airport to comply with changes to FAA Order JO 7400.2N; updates the geographic coordinates of the airport to coincide with the FAA's aeronautical database.

This action is necessary due to biennial airspace reviews.

FAA Order JO 7400.11, Airspace Designations and Reporting Points, is published yearly and effective on September 15.

Regulatory Notices and Analyses

The FAA has determined that this regulation only involves an established body of technical regulations for which frequent and routine amendments are necessary to keep them operationally current, is non-controversial and unlikely to result in adverse or negative comments. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5.a. This airspace action is not expected to cause any potentially significant environmental impacts, and no extraordinary circumstances exist that warrant preparation of an environmental assessment.

List of Subjects in 14 CFR 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11G, Airspace Designations and Reporting Points, dated August 19, 2022, and effective September 15, 2022, is amended as follows:

Paragraph 5000 Class D Airspace.

* * * * *

ACE KS D Topeka, KS [Amended]

Topeka Regional Airport, KS

(Lat. 38°57′03″ N, long. 95°39′49″ W)

That airspace extending upward from the surface to and including 3,600 feet MSL within a 4.9-mile radius of Topeka Regional Airport. This Class D airspace area is effective during the specific dates and times established in advance by a Notice to Air Missions. The effective dates and times will thereafter be continuously published in the Chart Supplement.

ACE KS D Topeka, KS [Amended]

Philip Billard Municipal Airport, KS

(Lat. 39°04′08″ N, long. 95°37′21″ W)

Philip Billard Muni: RWY 13-LOC

(Lat. 39°03′47″ N, long. 95°36′42″ W)

That airspace extending upward from the surface to and including 3,400 feet MSL within a 4-mile radius of Philip Billard Municipal Airport, excluding that airspace within the Topeka Regional Airport, Topeka, KS, Class D and Class E surface airspace areas; and within 1 mile each side of the 002° bearing from the airport extending from the 4-mile radius to 4.1 miles north of the airport; and within 1 mile each side of the 134° bearing from the Philip Billard Muni: RWY 13-LOC extending from the 4-mile radius of the airport to 4.1 miles southwest of the Philip Billard Muni: RWY 13-LOC; and within 1 mile each side of the 314° bearing from the airport extending from the 4-mile radius of the airport to 4.2 miles northwest of the airport. This Class D airspace area is effective during the specific dates and times established in advance by a Notice to Air Missions. The effective dates and times will thereafter be continuously published in the Chart Supplement.

Paragraph 6002 Class E Airspace Areas Designated as Surface Areas.

* * * * *

ACE KS E2 Topeka, KS [Amended]

Topeka Regional Airport, KS

(Lat. 38°57′03″ N, long. 95°39′49″ W)

That airspace extending upward from the surface within a 4.9-mile radius of Topeka Regional Airport. This Class E airspace area is effective during the specific dates and times established in advance by a Notice to Air Missions. The effective dates and times will thereafter be continuously published in the Chart Supplement.

ACE KS E2 Topeka, KS [Amended]

Philip Billard Municipal Airport, KS

(Lat. 39°04′08″ N, long. 95°37′21″ W)

Philip Billard Muni: RWY 13-LOC

(Lat. 39°03′47″ N, long. 95°36′42″ W)

That airspace extending upward from the surface within a 4-mile radius of Philip Billard Municipal Airport, excluding that airspace within the Topeka Regional Airport, Topeka, KS, Class D and Class E surface airspace areas; and within 1 mile each side of the 002° bearing from the airport extending from the 4-mile radius to 4.1 miles north of the airport; and within 1 mile each side of the 134° bearing from the Philip Billard Muni: RWY 13-LOC extending from the 4-mile radius of the airport to 4.1 miles southwest of the Philip Billard Muni: RWY 13-LOC; and within 1 mile each side of the 314° bearing from the airport extending from the 4-mile radius of the airport to 4.2 miles northwest of the airport. This Class E airspace area is effective during the specific dates and times established in advance by a Notice to Air Missions. The effective dates and times will thereafter be continuously published in the Chart Supplement.

Paragraph 6004 Class E Airspace Areas Designated as an Extension to a Class D or Class E Surface Area.

* * * * *

ACE KS E4 Topeka, Philip Billard Municipal Airport, KS [Remove]

Paragraph 6005 Class E Airspace Areas Extending Upward From 700 Feet or More Above the Surface of the Earth.

* * * * *

ACE KS E5 Topeka, KS [Amended]

Topeka Regional Airport, KS

(Lat. 38°57′03″ N, long. 95°39′49″ W)

Forbes TACAN

(Lat. 38°56′51″ N, long. 95°39′40″ W)

That airspace extending upward from 700 feet above the surface within a 7.4-mile radius of Topeka Regional Airport; and within 1 mile each side of the 040° bearing from the airport extending from the 7.4-mile radius of the airport to 12.8 miles northeast of the airport; and within 3.9 miles each side of the Forbes TACAN 124° radial extending from the 7.4-mile radius of the airport to 10.4 miles southeast of the Forbes TACAN; and within 1 mile each side of the 220° bearing from the airport extending from the 7.4-mile radius of the airport to 12.8 miles southwest of the airport.

ACE KS E5 Topeka, KS [Amended]

Philip Billard Municipal Airport, KS

(Lat. 39°04′08″ N, long. 95°37′21″ W)

Philip Billard Muni: RWY 13-LOC

(Lat. 39°03′47″ N, long. 95°36′42″ W)

That airspace extending upward from 700 feet above the surface within a 6.5-mile radius of Philip Billard Municipal Airport; and within 1.5 miles each side of the 134° bearing from the Philip Billard Muni: RWY 13-LOC extending from the 6.5-mile radius of the airport to 8.1 miles southeast of the Philip Billard Muni: RWY 13-LOC; and within 3.8 miles each side of the 314° bearing from the Philip Billard Muni: RWY 13-LOC extending from the 6.5-mile radius of the airport to 10.9 miles from the Philip Billard Muni: RWY 13-LOC.

Issued in Fort Worth, Texas, on February 1, 2023.
Martin A. Skinner,
Acting Manager, Operations Support Group, ATO Central Service Center.

[FR Doc. 2023-02406 Filed 2-3-23; 8:45 am]

BILLING CODE 4910-13-P